DEPARTMENT OF VETERANS AFFAIRS

Advisory Committee on Structural Safety of Department of Veterans Affairs Facilities; Notice of Meeting

The Department of Veterans Affairs (VA) gives notice under the Federal Advisory Committee Act (5 U.S.C. App. 2) that a meeting of the Advisory Committee on Structural Safety of Department of Veterans Affairs Facilities will be held on May 29-30, 2014, in Room 6W305, 425 I. Street NW., Washington, DC. The sessions will be from 8:30 a.m. until 4:30 p.m., on May 29 and from 8:30 a.m. until 12:30 p.m. on May 30. The meeting is open to the public.

The purpose of the Committee is to advise the Secretary of Veterans Affairs on matters of structural safety in the construction and remodeling of VA facilities and to recommend standards for use by VA in the construction and alteration of its facilities.

On May 29 the Committee will review developments in the fields of fire safety issues and structural design as they relate to seismic and other natural hazards impact on the safety of buildings. On May 30, the Committee will receive appropriate briefings and presentations on current seismic, natural hazards, and fire safety issues that are particularly relevant to facilities owned and leased by the Department. The Committee will also discuss appropriate structural and fire safety recommendations for inclusion in VA's construction standards.

No time will be allocated for receiving oral presentations from the public. However, the Committee will accept written comments. Comments should be sent to Krishna K. Banga, Senior Structural Engineer, Facilities Standards Service, Office of Construction and Facilities Management (003C2B), Department of Veterans Affairs, 425 I Street NW., Washington, DC 20001, or emailed at krishna.banga@va.gov. Because the meeting will be in a Government building, anyone attending must be prepared to show a valid photo ID for checking in. Please allow 15 minutes before the meeting begins for this process. Those wishing to attend should or seeking additional information should contact Mr. Banga at (202) 632-4694.

Dated: April 29, 2014.
Jelessa Burney,
Federal Advisory Committee Management Officer.

[FR Doc. 2014-10048 Filed 5-1-14; 8:45 am]

BILLING CODE 8320-01-P